DEPARTMENT OF HEALTH AND HUMAN SERVICES

Food and Drug Administration

[Docket Nos. FDA-2013-N-0804; FDA-2010-N-0598; FDA-2022-N-0081; FDA-2022-N-1886; FDA-2022-N-2657; FDA-2023-N-0895; FDA-2023-N-0343; FDA-2023-N-0134; FDA-2022-N-3208; FDA-2017-N-0084; FDA-2023-N-1168; FDA-2016-N-2474; FDA-2014-N-0086; FDA-2017-N-0366; FDA-2019-N-3657; FDA-2023-N-0155; FDA-2010-N-0601; FDA-2023-N-2757]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Premarket Notification Submission 510(k), Subpart E | 0910-0120 | 7/31/2026
Good Manufacturing Practice Regulations for Type A Medicated Articles | 0910-0154 | 7/31/2026
Tradeoff Analysis of Prescription Drug Product Claims in Direct-to-Consumer and Healthcare Provider Promotion | 0910-0917 | 7/31/2026
Endorser Status and Actual Use in Direct-to-Consumer Television Ads | 0910-0918 | 7/31/2026
Assessing Physiological, Neural and Self-Reported Response to Tobacco Education Messages | 0910-0919 | 7/31/2026
Imports and Electronic Import Entries | 0910-0046 | 8/31/2026
Current Good Manufacturing Practices for Blood and Related Regulations for and Blood Components; and Requirements for Donor Testing, Donor Notification, and “Lookback” | 0910-0116 | 8/31/2026
Administrative Practices and Procedures; Formal Hearings | 0910-0191 | 8/31/2026
Adverse Experience/Events with Approved New Animal Drugs | 0910-0284 | 8/31/2026
Adverse Event Program for Medical Devices (Medical Product Safety Network (MedSun)) | 0910-0471 | 8/31/2026
Human Cells, Tissues, and Cellular and Tissue-Based Products | 0910-0543 | 8/31/2026
New Animal Drugs for Minor Use and Minor Species | 0910-0605 | 8/31/2026
Potential Tobacco Product Violations Reporting Form | 0910-0716 | 8/31/2026
Food and Drug Administration Advisory Committee Regulations | 0910-0833 | 8/31/2026
Accreditation Scheme for Conformity Assessment Program | 0910-0889 | 8/31/2026
Quantitative Research on Front of Package Labeling on Packaged Foods | 0910-0920 | 8/31/2026
Current Good Manufacturing Practice Regulations for Medicated Feed | 0910-0152 | 9/30/2026
Medical Devices—Voluntary Improvement Program | 0910-0922 | 9/30/2026

Dated: October 5, 2023.
Lauren K. Roth,
Associate Commissioner for Policy.

[FR Doc. 2023-22465 Filed 10-10-23; 8:45 am]

BILLING CODE 4164-01-P